ENVIRONMENTAL PROTECTION AGENCY

[EPA-HQ-OAR-2007-1182; FRL-9982-53-OEI]

Information Collection Request Submitted to OMB for Review and Approval; Comment Request; Emissions Certification and Compliance Requirements for Nonroad Compression-Ignition Engines and On-Highway Heavy Duty Engines (Revision)

AGENCY: Environmental Protection Agency (EPA).

ACTION: Notice.

SUMMARY: The Environmental Protection Agency (EPA) has submitted an information collection request (ICR), Emissions Certification and Compliance Requirements for Nonroad Compression-ignition Engines and On-highway Heavy Duty Engines (EPA ICR Number 1684.20, OMB Control No. 2060-0287) to the Office of Management and Budget (OMB) for review and approval in accordance with the Paperwork Reduction Act. Public comments were previously requested via the Federal Register on May 31, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 20, 2018.

ADDRESSES: Submit your comments, referencing Docket ID Number referencing the Docket ID No. EPA-HQ-OAR-2007-1182 to (1) EPA online using www.regulations.gov (our preferred method), by email to a-and-r-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Nydia Yanira Reyes-Morales, Office of Transportation and Air Quality, Mail Code 6405J, Environmental Protection Agency, 1200 Pennsylvania Ave. NW, Washington, DC 20460; telephone number: 202-343-9264; email address: reyes-morales.nydia@epa.gov.

SUPPLEMENTARY INFORMATION: Supporting documents, which explain in detail the information EPA will be collecting, are available in the public docket for this ICR. The docket can be viewed online at www.regulations.gov or in person at the EPA Docket Center, WJC West, Room 3334, 1301 Constitution Ave. NW, Washington, DC. The telephone number for the Docket Center is 202-566-1744. For additional information, visit http://www.epa.gov/dockets.

Abstract: The currently approved ICR addresses certification and compliance requirements for the following industries: Nonroad (NR) compression-ignition (CI) engines and equipment, marine CI engines in Categories 1 and 2; and heavy-duty (HD) engines. In this revision, the following ICRs are being incorporated, either in whole or in part, to eliminate redundancy: Control of Emissions from New Marine Compression-Ignition Engines at or Above 30 Liters per Cylinder (2060-0641); Engine Emission Defect Information Reports and Voluntary Emission Recall Reports (2060-0048); Emissions Certification and Compliance Requirements for Locomotives and Locomotive Engines (2060-0392); and Certification and Compliance Requirements for Medium- and Heavy-Duty Engines and Vehicles (2060-0678). With this consolidation, we are combining all certification and compliance burden associated with the heavy-duty and nonroad compression-ignition engine, equipment and vehicle industries under a single ICR.

Title II of the Clean Air Act (CAA), charges EPA with issuing certificates of conformity for those engines and vehicles that comply with applicable emission requirements. Such a certificate must be issued before those products may be legally introduced into commerce. To apply for a certificate of conformity, manufacturers are required to submit descriptions of their planned production, descriptions of emission control systems and test data. The emission values achieved during certification testing may also be used in the Averaging, Banking, and Trading (ABT) Program, which allows engine manufacturers to bank credits for engine families that emit below the standard and use the credits to certify engine families that emit above the standard.

The CAA also mandates EPA verify that manufacturers have translated their certified prototypes into mass produced engines; and that these engines comply with emission standards throughout their useful lives. EPA verifies this through Compliance Programs, including Production Line Testing (PLT), In-use Testing and Selective Enforcement Audits (SEAs). PLT is a self-audit program that allows marine engine manufacturers to monitor their products' emissions profile with statistical certainty and minimize the cost of correcting errors through early detection. In-use testing verifies compliance with emission standards throughout an engine family's useful life. Through SEAs, EPA verifies that test data submitted by engine manufacturers is reliable and testing is performed according to EPA regulations.

Under the Transition Program for Equipment Manufacturers (TPEM), NRCI equipment manufacturers may delay compliance with Tier 4 standards for up to seven years if they comply with certain limitations. The Program seeks to ease the impact of new emission standards on equipment manufacturers as they often need to redesign their products.

Form Numbers: HD/NR Engine Manufacturer Annual Production Report (5900-90); AB&T Report for Nonroad Compression Ignition Engines (5900-125); AB&T Report for Heavy-duty On-highway Engines (5900-134); AB&T Report for Locomotives (5900-274); AB&T Report for Marine Compression-ignition Engines (5900-125); PLT Report for Marine CI CumSum (5900-297); PLT Report for Marine CI Non-CumSum (5900-298); PLT Report for Locomotives (5900-135); PLT Report for Locomotives (5900-273); In-use Testing for Locomotives (5900-93); Replacement Engine Exemption Report (6900-5415); HD Defect Information Reports (590-301); HD Voluntary Emissions Recall Reports VERRs (590-300); HD VER Quarterly Reports (590-302); HD Alternative Fuel Conversions of Intermediate Age (5900-338); HD Alternative Fuel Conversions Outside of Useful Life (5900-259); TPEM Equipment Manufacturer Notification (5900-242); TPEM Equipment Manufacturer Report (5900-240); TPEM Engine Manufacturer Report (5900-241); TPEM Importers Notification (TBD); TPEM Importers Annual Report (TBD); TPEM Statement to Comply (5900-239); TPEM Hardship Relief Application Questionnaire (5900-465); TPEM Hardship Relief Prescreening Questionnaire (5900-465)

Respondents/affected entities: Manufacturers of engines, equipment and vehicles in the nonroad compression ignition (CI), marine CI, locomotives and medium- and heavy-duty on-highway industries; Marine CI vessel owners and operators and owners of HD truck fleets.

Respondent's obligation to respond: Regulated manufacturers must respond to this collection if they wish to sell their products in the US, as prescribed by Section 206(a) of the CAA (42 U.S.C. 7521). Participation in some programs such as ABT and TPEM is voluntary, but once a manufacturer has elected to participate, it must submit the required information.

Estimated number of respondents: 468 (total).

Frequency of response: Quarterly, Annually, On Occasion.

Total estimated burden: 127,900 hours per year. Burden is defined at 5 CFR 1320.03(b).

Total estimated cost: $21,639,590 (per year), which includes an estimated $11,682,548 annualized capital or maintenance and operational costs.

Changes in the Estimates: There is a net decrease of 73,137 hours in the total estimated burden. This decrease is due to: (1) A decrease in TPEM respondents; (2) respondents' reliance on carry-over testing data; and 3) eliminating duplication.

Courtney Kerwin,
Director, Regulatory Support Division.

[FR Doc. 2018-17984 Filed 8-20-18; 8:45 am]

BILLING CODE 6560-50-P